DEPARTMENT OF LABOR

Employment and Training Administration

[TA-W-63,418]

Gramercy Jewelry Manufacturing Corporation, New York, NY; Notice of Negative Determination Regarding Application for Reconsideration

By application dated June 19, 2008, a company official requested administrative reconsideration of the Department's negative determination regarding eligibility for workers and former workers of Gramercy Jewelry Manufacturing Corporation, New York, New York, to apply for Trade Adjustment Assistance (TAA) and Alternative Trade Adjustment Assistance (ATAA). The negative determination was issued on June 10, 2008. The Department's notice of determination was published in the Federal Register on June 27, 2008 (73 FR 36576).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition, which was filed on behalf of workers at Gramercy Jewelry Manufacturing Corporation, New York, New York engaged in the production of jewelry, was denied based on the findings that sales and production at the subject firm did not decrease from 2006 to 2007 or from January through April 2008, when compared with the same period in 2007. The investigation also revealed no shift in production to a foreign country in the relevant time period.

In the request for reconsideration, the company official stated that he disagrees with the investigation and that the subject firm “laid off about 25 employees.” The company official did not supply any additional information regarding sales or production that would warrant reopening the investigation.

After careful review of the request for reconsideration, the Department determines that none of the circumstances under 29 CFR 90.18(c) for granting reconsideration have been met.

Conclusion

After review of the application and investigative findings, I conclude that there has been no error or misinterpretation of the law or of the facts which would justify reconsideration of the Department of Labor's prior decision. Accordingly, the application is denied.

Signed at Washington, DC this 8th day of July 2008.
Linda G. Poole,
Certifying Officer, Division of Trade Adjustment Assistance.

[FR Doc. E8-16079 Filed 7-14-08; 8:45 am]

BILLING CODE 4510-FN-P